DEPARTMENT OF EDUCATION

Applications for New Awards; Educational Technology, Media, and Materials for Individuals With Disabilities Program—Development of Innovative Technology Tools or Approaches To Improve Outcomes for Individuals With Disabilities

AGENCY: Office of Special Education and Rehabilitative Services, Department of Education.

ACTION: Notice.

SUMMARY: The Department of Education (Department) is issuing a notice inviting applications for new awards for fiscal year (FY) 2023 for Development of Innovative Technology Tools or Approaches to Improve Outcomes for Individuals with Disabilities, Assistance Listing Number 84.327R. This notice relates to the approved information collection under OMB control number 1820-0028.

DATES: Applications Available: February 13, 2023.

Deadline for Transmittal of Applications: April 14, 2023.

Deadline for Intergovernmental Review: June 13, 2023.

Pre-Application Webinar Information: No later than February 21, 2023, the Office of Special Education and Rehabilitative Services will post details on pre-recorded informational webinars designed to provide technical assistance (TA) to interested applicants. Links to the webinars may be found at https://www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at https://www.federalregister.gov/documents/2022/12/07/2022-26554/common-instructions-for-applicants-to-department-of-education-discretionary-grant-programs. Please note that these Common Instructions supersede the version published on December 27, 2021.

FOR FURTHER INFORMATION CONTACT:

For Absolute Priority 1: Rebecca Sheffield, U.S. Department of Education, 400 Maryland Avenue SW, Room 5040E, Potomac Center Plaza, Washington, DC 20202-5076. Telephone: (202) 245-6725. Email: Rebecca.Sheffield@ed.gov.

For Absolute Priority 2: Tina Diamond, U.S. Department of Education, 400 Maryland Avenue SW, Room 5076, Potomac Center Plaza, Washington, DC 20202-5076. Telephone: (202) 245-6723. Email: Christina.Diamond@ed.gov.

If you are deaf, hard of hearing, or have a speech disability and wish to access telecommunications relay services, please dial 7-1-1.

SUPPLEMENTARY INFORMATION:

Full Text of Announcement

I. Funding Opportunity Description

Purpose of Program: The purpose of the Educational Technology, Media, and Materials for Individuals with Disabilities program (ETechM2 Program) is to improve results for children with disabilities by (1) promoting the development, demonstration, and use of technology; (2) supporting educational activities designed to be of educational value in the classroom for children with disabilities; (3) providing support for captioning and video description that is appropriate for use in the classroom; and (4) providing accessible educational materials to children with disabilities in a timely manner.

Priorities: This competition includes two absolute priorities. In accordance with 34 CFR 75.105(b)(2)(v), the absolute priorities are from allowable activities specified in sections 674(b)(2) and 681(d) of the Individuals with Disabilities Education Act (IDEA); 20 U.S.C. 1474(b)(2) and 1481(d).

Absolute Priorities: For FY 2023 and any subsequent year in which we make awards from the list of unfunded applications from this competition, these priorities are absolute priorities. Under 34 CFR 75.105(c)(3), we consider only applications that meet either Absolute Priority 1 or Absolute Priority 2. The Department intends to fund at least one project under each absolute priority. Applicants may apply under both absolute priorities but must submit separate applications. Applicants must clearly identify if the proposed project addresses Absolute Priority 1 or Absolute Priority 2.

These priorities are:

Absolute Priority 1: Supporting Technology-Based Approaches to Transition Experiences for Secondary Students with Sensory Disabilities.¹

¹ Sensory disabilities include deafness, hearing impairment, visual impairment including blindness, or deaf-blindness, as defined in 34 CFR 300.8(b)(2).

Background:

Transition goals and objectives that address transition services requirements must be in effect as part of the individualized education program (IEP) required under IDEA when a student turns 16 years old, or younger if deemed appropriate by the IEP Team or if required by State law. Despite advances in technology, transition-related experiences for secondary students with disabilities have predominantly entailed in-person, community experiences consisting of volunteer or paid work. This in-person approach can limit students' transition experiences to options only available in their local communities. Furthermore, in most educational settings, students with disabilities are instructed using strategies that rely on sensory inputs such as observation and listening. For example, information about career options, college expectations, social norms, occupation-specific vocabulary, interviewing strategies, and other transition skills are often taught through job site visits and presentations utilizing video/audio content that is not accessible to students with sensory disabilities. Transition planning that includes the use of technology-based approaches can help overcome these limitations, by creating accessible opportunities for students with sensory disabilities to receive mentoring and pre-employment and pre-college experiences, and to engage in vocational training programs beyond their community and still be supported by qualified teachers who employ accommodations, specialized instruction, and other services available under IDEA and the Rehabilitation Act of 1973, as amended by the Workforce Innovation and Opportunity Act (WIOA), 29 U.S.C. 3101 et seq. (Low, 2020).

Research supports the use of technology for virtual and in-person instruction to increase accessibility and enable greater independence for all students with disabilities. The Education Access Board reported evidence that virtual internships in areas individualized to students' career interests improved career readiness for all students, especially students in rural and remote areas who may have limited access to transportation, professional networks, and high-demand career fields (Richards, 2020). Technology can be leveraged to extend the range of college and career opportunities open to students with sensory disabilities by providing the platform for these students to engage in virtual mentoring, virtual pre-employment and pre-college experiences, and virtual vocational training. These virtual transition experiences can decrease the reliance on in-person, community-based opportunities, remove transportation barriers experienced by students with sensory disabilities who are unable to drive or who lack access to public transportation and open a range of innovative, virtual experiences individualized to their career or college interests (Richards, 2020; Maurer, 2021).

Unfortunately, students with sensory disabilities, particularly those living in rural and remote areas, often face transportation, accessibility, networking, and communication barriers to career awareness and pre-employment experiences. Many adjustments to in-person activities and after-school and summer programs that were made in response to the COVID-19 pandemic have continued to reshape school programs and culture (e.g., hybrid learning opportunities, remote service delivery, computer-based textbooks and instructional materials). At times, these changes have resulted in additional barriers and fewer or delayed opportunities for hands-on engagement in transition experiences (Iowa's Area Education Agencies, 2020; Michigan Bureau of Services for Blind Persons, 2020; Vermont Agency of Education, 2020). Simultaneously, schools and programs are increasingly implementing digitally enhanced, virtual, and hybrid alternatives and additions to in-person programming, which may or may not be accessible to students with disabilities (Greenhow et. al, 2022).

Projects funded under this priority will incorporate innovative approaches for delivering technology-based transition services including instruction, mentoring, pre-employment transition services, and the continuum of work-based learning opportunities, from “career exposure” to “career experience” for secondary students with sensory disabilities (Altstadt et al., 2020).

Priority:

The purpose of this priority is to fund projects to establish and operate evidence-based ² transition experience programs that integrate accessible technology-based tools and approaches to support secondary students with sensory disabilities.³

² For the purposes of this priority, “evidence-based” means, at a minimum, evidence that demonstrates a rationale (as defined in 34 CFR 77.1), where a key project component included in the project's logic model is informed by research or evaluation findings that suggest the project component is likely to improve relevant outcomes.

³ For the purposes of this priority, “secondary students with sensory disabilities” means students in schools and school-sponsored programs offering curriculum for grades 6, 7, 8, 9, 10, 11, or 12, and youth in extended transition programs beyond 12th grade served under IDEA, who have one or more of the following disabilities: deafness, hearing impairment, visual impairment including blindness, or deaf-blindness, as defined in 34 CFR 300.8(b)(2).

The projects must achieve, at a minimum, the following expected outcomes:

(a) Increased accessibility and participation for secondary students with sensory disabilities in pre-vocational experiences (e.g., internships, early work experiences, apprenticeships) and early college experiences, especially in rural and remote ⁴ areas.

⁴ For the purposes of this priority, “rural and remote” areas are school districts and service delivery areas within one of the U.S. territories, freely associated States, or outlying areas or within a reservation, or which are school districts whose locale type is classified as rural according to 2019 or 2020 data from the National Center for Education Statistics locale classifications. See https://nces.ed.gov/programs/maped/LocaleLookup/.

(b) Increased capacity of schools and State vocational rehabilitation agencies to provide transition services (e.g., career awareness programming, transition programming, skills training, benefits counseling) for secondary students with sensory disabilities.

(c) Increased collaboration among families, schools, employers, vocational rehabilitation agencies, and community colleges and universities to support successful implementation of transition goals and objectives for secondary students with disabilities.

(d) Increased inclusion of students in grades 6 through 9 with sensory disabilities in accessible, impactful early career awareness and job skill-building experiences.

(e) Increased acquisition of college and career-related self-determination, social and emotional, and assistive technology competencies by secondary students with sensory disabilities.

(f) Increased numbers of secondary students with sensory disabilities earning college credits or completing vocational training courses while still in high school.

In addition to these programmatic requirements, to be considered for funding under this absolute priority, applicants must meet the application and administrative requirements in this priority.

Application Requirements:

(a) Describe, in the narrative section of the application under “Significance,” how the proposed project will address the need in the field for transition programs that support technology-based connections to pre-vocational learning experiences, mentoring, and pre-college experiences for secondary students with sensory disabilities. To meet this requirement the applicant must—

(i) Demonstrate knowledge of current educational and policy issues and national initiatives relating to post-secondary transition for students with sensory disabilities, including issues relevant to transition for secondary students in rural and remote areas;

(ii) Demonstrate knowledge of existing and emerging evidence-based practices (EBPs) in technology-based approaches to transition for secondary students with disabilities, including practices to promote college and career-related self-determination, social and emotional, and assistive technology competencies;

(iii) Demonstrate knowledge of the supports that are needed to build State educational agency (SEA) and local educational agency (LEA) capacity to provide technology-based connections to engage secondary students with sensory disabilities in pre-vocational learning experiences, mentoring, and pre-college experiences (e.g., professional development, coaching, interagency and family collaboration);

(iv) Demonstrate knowledge of strategies that can be implemented with students in grades 6 through 9 to promote early engagement in transition activities;

(v) Demonstrate knowledge of EBPs for transition programming that leads to college credit and vocational training qualifications for students still in high school; and

(vi) Address each of the selection criteria for this section.

(b) Demonstrate, in the narrative section of the application under “Quality of project design and services,” how the proposed project will—

(1) Ensure equal access and treatment for members of groups that have traditionally been underrepresented based on race, color, national origin, gender, age, or disability. To meet this requirement, the applicant must describe how it will—

(i) Identify the transition-related needs of the target population (students with sensory disabilities or a subpopulation thereof); and

(ii) Ensure that the technology-based connections to pre-vocational experiences, mentoring, and pre-college experiences meet the needs of the target population;

(2) Utilize and refine a design process that moves the proposed technology-based connections to pre-vocational experiences, mentoring, and pre-college experiences from idea to implementation;

(3) Develop and refine the vision, plan, and program incorporating technology-based connections to pre-vocational experiences, mentoring, and pre-college experiences to achieve the intended project outcomes. To meet this requirement, the applicant must provide—

(i) Measurable intended project outcomes; and

(ii) In Appendix A, the logic model (as defined in 34 CFR 77.1) by which the proposed project will achieve its intended outcomes that depicts, at a minimum, the goals, activities, outputs, and intended outcomes of the proposed project;

Note: The following websites provide more information on logic models: https://osepideasthatwork.org/sites/default/files/2021-12/ConceptualFramework_Updated.pdf and www.osepideasthatwork.org/resources-grantees/program-areas/ta-ta/tad-project-logic-model-and-conceptual-framework.

(iii) Criteria and strategies for selecting and recruiting implementation sites. Applicants are encouraged to choose sites from a variety of settings (e.g., urban, Tribal, rural, suburban) and populations (e.g., communities with high concentrations of students receiving free or reduced-price lunch), recognizing that due to the low incidence of sensory disabilities, a “site” may need to incorporate multiple school campuses, LEAs, or regions, within one State or across multiple States. Each project must include at least three sites, with at least one of the three sites having at least 50 percent of students living in rural or remote settings;

Note: Applicants are encouraged to identify, to the extent possible, the sites willing to participate in the applicant's project. Final site selection will be determined in consultation with the Office of Special Education Programs (OSEP) project officer.

(4) Be based on current research and make use of EBPs. To meet this requirement, the applicant must describe how the proposed project will incorporate current research and practices in the development of the technology-based connections to pre-vocational experiences, mentoring, and pre-college experiences;

(5) Develop a dissemination plan that describes how the applicant will systematically distribute information, products, and services to varied intended audiences, using a variety of dissemination strategies, to promote awareness and broader use of the technology-based connections to pre-vocational experiences, mentoring, and pre-college experiences. This plan must include:

(i) Strategies for the grantee to develop a manual, toolkit, and other resources for disseminating information on the program by the end of the grant period; and

(ii) Strategies for the grantee to assist State and local agencies (e.g., SEAs, LEAs, and vocational rehabilitation agencies), schools and other partners within or across States to scale up the program and its components; and

(6) Address each of the selection criteria for this section.

(c) In the narrative section of the application under “Quality of the project evaluation,” include an evaluation plan for the project. The evaluation plan must—

(1) Articulate formative and summative evaluation questions, including important process and outcome evaluation questions. These questions should be related to the project's proposed logic model required in paragraph (b)(3) of this notice;

(2) Describe how project outcomes will be measured to answer the evaluation questions. Specify the measures and associated instruments or sources for data appropriate to the evaluation questions. Include information regarding reliability and validity of measures where appropriate;

(3) Describe strategies for analyzing data and how data collected as part of this plan will be used to inform and improve the project and to refine the proposed logic model and evaluation plan, including subsequent data collection;

(4) Provide a timeline for conducting the evaluation and include staff assignments for completing the plan. The timeline must indicate that the data will be available annually for the annual performance report (APR);

(5) Dedicate sufficient funds in each budget year to cover the costs of developing or refining the evaluation plan, as well as the costs associated with the implementation of the evaluation; and

(6) Address each of the selection criteria for this section.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities;

(4) The proposed costs are reasonable in relation to the anticipated results and benefits; and

(5) The proposed project will address each of the selection criteria for this section.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients;

(4) The proposed project will benefit from a diversity of perspectives, including those of families, educators, TA providers, researchers, and policy makers, among others, in its development and operation; and

(5) The proposed project will address each of the selection criteria for this section.

(f) Include, in Appendix A, personnel-loading charts and timelines, as applicable, to illustrate the management plan described in the narrative;

(g) Include, in the budget, attendance at the following:

(i) A one and one-half day kick-off meeting in Washington, DC, or virtually, after receipt of the award, and an annual planning meeting in Washington, DC, or virtually, with the OSEP project officer and other relevant staff during each subsequent year of the project period;

Note: Within 30 days of receipt of the award, a post-award teleconference must be held between the OSEP project officer and the grantee's project director or other authorized representative.

(ii) A three-day project directors' conference in Washington, DC, or virtually, occurring twice during the project period; and

Note: The project must reallocate unused travel funds no later than the end of the third quarter of each budget period if the three-day project director's conference is conducted virtually.

(iii) Four travel days spread across years two through four of the project period to attend planning meetings, Department briefings, Department-sponsored conferences, and other meetings, as requested by OSEP;

(h) If proposed, maintain a high-quality website, with an easy-to-navigate design, that meets government or industry-recognized standards for accessibility and includes relevant information about the project's annual progress toward meeting project outcomes; and

(i) Include, in Appendix A, an assurance to assist OSEP with the transfer and dissemination of pertinent resources and products at the end of this award period, as appropriate.

Note: Under 34 CFR 75.253, the Secretary may reduce continuation awards or discontinue awards in any year of the project period for excessive carryover balances or a failure to make substantial progress. The Department intends to closely monitor unobligated balances and substantial progress under this program and may reduce or discontinue funding accordingly.

References:

Altstadt, D., Barrett, L., Cahill, C., Cuevas, E., & Maag, T. (2020). Expanding high-quality work-based learning. Education Commission of the States. www.ecs.org/expanding-high-quality-work-based-learning/.

Greenhow, C., Graham, C. R., & Koehler, M. J. (2022). Foundations of online learning: Challenges and opportunities. Educational Psychologist, 57(3), 131-147. https://doi.org/10.1080/00461520.2022.2090364.

Iowa's Area Education Agencies. (2020). R2L support for secondary transition considerations. https://aea8transition.files.wordpress.com/2020/08/r2l-support-for-secondary-transition-3.pdf.

Low, C. (2020, December 23). Accessibility in tech improved in 2020, but more must be done. How did the industry's biggest companies perform? Engadget. https://www.engadget.com/accessibility-in-tech-2020-150002855.html.

Maurer, R. (2021, July 13). Virtual summer internships 2.0: How can employers improve from last year? Society for Human Resource Management. https://www.shrm.org/resourcesandtools/hr-topics/talent-acquisition/pages/virtual-summer-internships-how-can-employers-improve-last-year.aspx.

Michigan Bureau of Services for Blind Persons (BSBP). (2020). BSBP COVID-19 operational impact. Workforce Innovation Technical Assistance Center. www.wintac.org/content/resources-distance-service-delivery.

Richards, R. (2020, May 14). How virtual internships can improve career readiness for all students: Lessons from a rural school district. EAB. https://eab.com/insights/blogs/district-leadership/virtual-internships-career-readiness/.

Vermont Agency of Education. (2020). Implementing transition services during remote learning. https://education.vermont.gov/sites/aoe/files/documents/edu-implementing-transition-services-during-remote-learning.pdf.

Absolute Priority 2: Field-Initiated Projects to Develop Innovative Technology for Individuals with Disabilities.

Background:

The IDEA emphasizes the importance of linking research and practice to improve educational results for individuals with disabilities. Over the past 45 years, OSEP has supported technology development, demonstration, and utilization within special education to (1) improve transfer of technology from research to practice; (2) increase accessibility of technology to the broadest range of individuals with disabilities; (3) demonstrate the use of technology to parents and educators; and (4) expand the use of technology to support communication and educational engagement for students with the most significant cognitive disabilities. Projects implemented over the years have addressed a variety of topics and target audiences but have all focused on the use of technology to maximize the academic, social, and functional skills of individuals with disabilities and improve their access to evidence-based ⁵ learning experiences.

⁵ For the purposes of this priority, “evidence-based” means, at a minimum, evidence that demonstrates a rationale (as defined in 34 CFR 77.1), where a key project component included in the project's logic model is informed by research or evaluation findings that suggest the project component is likely to improve relevant outcomes.

The rapid pace of technology innovation coupled with increased understanding of best practices in instructional design, cognitive science, and brain research has resulted in a need for continuous development of innovative technology to support all learners, including those with disabilities. The design and development of innovative technology must be accessible to and usable by the full range of learners, including by children and students with disabilities and their families, and grounded in effective learning principles (Bransford et al., 2000; Pashler et al., 2007; Graesser et al., 2011). For example, there is promising evidence that supports the use of gaming, simulation, and additional technologies to heighten learning experiences, increase opportunity to respond or practice, and support student exploration; however, these innovations are frequently not accessible to individuals with disabilities (Kaplan, 2022). To increase equity in access to technology and solve persistent problems experienced by individuals with disabilities, OSEP will fund field-initiated projects to develop innovative technology for individuals with disabilities that are consistent with the Secretary's Supplemental Priorities, which were published in the Federal Register on December 10, 2021 (86 FR 70612).

Priority:

The purpose of this priority is to fund field-initiated projects to develop accessible innovative technology to increase outcomes for individuals with disabilities receiving early intervention under Part C of IDEA or special education under Part B of IDEA, including those with the highest support needs. The purpose of field-initiated projects is to develop innovative technology (e.g., devices, programs, tools, applications, systems, approaches, or intervention protocols) based on evidence that the technology would be beneficial to the target population.

To be considered for this grant opportunity, applicants must propose projects to develop innovative technology to accomplish at least one of the following outcomes:

(a) Increased student-centered learning approaches that leverage technology to address learner variability (e.g., universal design for learning, K-12 competency-based education, project-based learning, or hybrid/blended learning) and increased provision of high-quality learning content, applications, or tools that take into account race, ethnicity, culture, language, and disability to address students' social, emotional, mental health, or academic needs.

(b) Increased engagement for individuals with disabilities and, where appropriate, families of individuals with disabilities in educational, functional, or supplemental activities that extend learning time or increase independence.

(c) Increased use of technology to enable evidence-based approaches to personalized learning for students with disabilities in the classroom or support supplemental activities that extend learning time and increase student and, where appropriate, parent engagement.

(d) Increased use of technology to expand the number and proportion of underserved students with disabilities who enroll in postsecondary readiness education programs, which may include strategies related to college or technical school preparation, awareness, application, selection, advising, counseling, and enrollment.

To be considered for funding under this absolute priority, applicants must meet the requirements contained in this priority.

Application Requirements:

(a) Describe, in the narrative section of the application under “Significance,” how the innovative technology proposed for development by the project will—

(1) Accomplish at least one of the required outcomes;

(2) Maximize the academic, social, and functional skills of individuals with disabilities and improve their access to evidence-based learning experiences; and

(3) Address each of the selection criteria for this section.

(b) Demonstrate, in the narrative section of the application under “Quality of project design and services,” how the proposed project will—

(1) Ensure equal access and treatment for members of groups that have traditionally been underrepresented based on race, color, national origin, gender, age, or disability. To meet this requirement, the applicant must describe how it will—

(i) Identify the needs of the target population; and

(ii) Ensure that the innovative technology proposed for development will meet the needs of the target population;

(2) Utilize and refine a design process that moves the innovative technology from idea to implementation;

(3) Develop and refine the vision, plan, and innovation to achieve the intended project outcomes. To meet this requirement, the applicant must provide—

(i) Measurable intended project outcomes; and

(ii) In Appendix A, the logic model (as defined in 34 CFR 77.1) by which the proposed project will achieve its intended outcomes that depicts, at a minimum, the goals, activities, outputs, and intended outcomes of the proposed project;

Note: The following websites provide more information on logic models: https://osepideasthatwork.org/sites/default/files/2021-12/ConceptualFramework_Updated.pdf and www.osepideasthatwork.org/resources-grantees/program-areas/ta-ta/tad-project-logic-model-and-conceptual-framework.

(4) Be based on current research and make use of EBPs. To meet this requirement, the applicant must describe how the proposed project will incorporate current research and practices in the development of the innovative technology;

(5) Develop a dissemination plan that describes how the applicant will systematically distribute information, products, and services to varied intended audiences, using a variety of dissemination strategies, to promote awareness and use of the innovative technology; and

(6) Address each of the selection criteria for this section.

(c) In the narrative section of the application under “Quality of the project evaluation,” include an evaluation plan for the project. The evaluation plan must—

(1) Articulate formative and summative evaluation questions, including important process and outcome evaluation questions. These questions should be related to the project's proposed logic model required in paragraph (b)(3) of this notice;

(2) Describe how project outcomes will be measured to answer the evaluation questions. Specify the measures and associated instruments or sources for data appropriate to the evaluation questions. Include information regarding reliability and validity of measures where appropriate;

(3) Describe strategies for analyzing data and how data collected as part of this plan will be used to inform and improve the project and to refine the proposed logic model and evaluation plan, including subsequent data collection;

(4) Provide a timeline for conducting the evaluation and include staff assignments for completing the plan. The timeline must indicate that the data will be available annually for the annual performance report (APR);

(5) Dedicate sufficient funds in each budget year to cover the costs of developing or refining the evaluation plan, as well as the costs associated with the implementation of the evaluation; and

(6) Address each of the selection criteria for this section.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities;

(4) The proposed costs are reasonable in relation to the anticipated results and benefits; and

(5) The proposed project will address each of the selection criteria for this section.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients;

(4) The proposed project will benefit from a diversity of perspectives, including those of families, educators, TA providers, researchers, and policy makers, among others, in its development and operation; and

(5) The proposed project will address each of the selection criteria for this section.

(f) Include, in Appendix A, personnel-loading charts and timelines, as applicable, to illustrate the management plan described in the narrative;

(g) Include, in the budget, attendance at the following:

(i) A one- and one-half day kick-off meeting in Washington, DC, or virtually, after receipt of the award, and an annual planning meeting in Washington, DC, or virtually, with the OSEP project officer and other relevant staff during each subsequent year of the project period;

Note: Within 30 days of receipt of the award, a post-award teleconference must be held between the OSEP project officer and the grantee's project director or other authorized representative.

(ii) A three-day project directors' conference in Washington, DC, or virtually, occurring twice during the project period; and

Note: The project must reallocate unused travel funds no later than the end of the third quarter of each budget period if the conference is conducted virtually.

(iii) Four travel days spread across years two through four of the project period to attend planning meetings, Department briefings, Department-sponsored conferences, and other meetings, as requested by OSEP;

(h) If proposed, maintain a high-quality website, with an easy-to-navigate design, that meets government or industry-recognized standards for accessibility and includes relevant information about the project's annual progress toward meeting project outcomes; and

(i) Include, in Appendix A, an assurance to assist OSEP with the transfer and dissemination of pertinent resources and products at the end of this award period, as appropriate.

Note: Under 34 CFR 75.253, the Secretary may reduce continuation awards or discontinue awards in any year of the project period for excessive carryover balances or a failure to make substantial progress. The Department intends to closely monitor unobligated balances and substantial progress under this program and may reduce or discontinue funding accordingly.

References:

Bransford, J. D., Brown, A. L., & Cocking, R. R. (Eds.). (2000). How people learn: Brain, mind, experience, and school. National Academy Press.

Graesser, A. (2011, July/August). Improving learning: Cognitive science has taught us about how humans learn. Now computer-based learning programs are putting those principles into action and improving student gains. American Psychological Association, 42 (7). www.apa.org/monitor/2011/07-08/ce-learning.

Kaplan, D. E. (2022). Simulation, gaming, and programming in education. Creative Education, 13(1), 30-37. https://doi.org/10.4236/ce.2022.131002.

Pashler, H., Bain, P., Bottge, B., Graesser, A., Koedinger, K., McDaniel, M., and Metcalfe, J. (2007). Organizing instruction and study to improve student learning (NCER 2007-2004). National Center for Education Research, Institute of Education Sciences, U.S. Department of Education. https://files.eric.ed.gov/fulltext/ED498555.pdf.

Waiver of Proposed Rulemaking: Under the Administrative Procedure Act (APA) (5 U.S.C. 553) the Department generally offers interested parties the opportunity to comment on proposed priorities. Section 681(d) of IDEA, however, makes the public comment requirements of the APA inapplicable to the priorities in this notice.

Program Authority: 20 U.S.C. 1474 and 1481.

Note: Projects will be awarded and must be operated in a manner consistent with nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreements.

Estimated Available Funds: $2,000,000.

Contingent upon the availability of funds and the quality of applications, we may make additional awards in FY 2024 from the list of unfunded applications from this competition.

Estimated Range of Awards: $450,000 to $500,000 per year.

Estimated Average Size of Awards: $475,000 per year.

Maximum Award: We will not make an award exceeding $500,000 for a single budget period of 12 months.

Estimated Number of Awards: 4.

Note: The Department is not bound by any estimates in this notice.

Project Period: Up to 60 months.

III. Eligibility Information

1. Eligible Applicants: SEAs; LEAs, including public charter schools that operate as LEAs under State law; IHEs; other public agencies; private nonprofit organizations; freely associated States and outlying areas; Indian Tribes or Tribal organizations; and for-profit organizations.

2. a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to the Cost Principles described in 2 CFR part 200 subpart E of the Uniform Guidance.

3. Subgrantees: Under 34 CFR 75.708(b) and (c), a grantee under this competition may award subgrants—to directly carry out project activities described in its application—to the following types of entities: institutions of higher education, nonprofit organizations suitable to carry out the activities proposed in the application, and other public agencies. The grantee may award subgrants to entities it has identified in an approved application or that it selects through a competition under procedures established by the grantee, consistent with 34 CFR 75.708(b)(2).

4. Other General Requirements:

a. Recipients of funding under this competition must make positive efforts to employ and advance in employment qualified individuals with disabilities (see section 606 of IDEA).

b. Applicants for, and recipients of, funding must, with respect to the aspects of their proposed project relating to the absolute priority addressed by their project, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application. Please note that these Common Instructions supersede the version published on December 27, 2021.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (15 points).

(1) The Secretary considers the significance of the proposed project.

(2) In determining the significance of the proposed project, the Secretary considers the following factors:

(i) The potential contribution of the proposed project to increased knowledge or understanding of educational problems, issues, or effective strategies;

(ii) The extent to which specific gaps or weaknesses in services, infrastructure, or opportunities have been identified and will be addressed by the proposed project, including the nature and magnitude of those gaps or weaknesses;

(iii) The extent to which the proposed project involves the development or demonstration of promising new strategies that build on, or are alternatives to, existing strategies; and

(iv) The potential replicability of the proposed project or strategies, including, as appropriate, the potential for implementation in a variety of settings.

(b) Quality of project design and services (30 points).

(1) The Secretary considers the quality of the design and services to be provided by the proposed project.

(2) In determining the quality of the design and services to be provided by the proposed project, the Secretary considers the quality and sufficiency of strategies for ensuring equal access and treatment for eligible project participants who are members of groups that have traditionally been underrepresented based on race, color, national origin, gender, age, or disability.

(3) In addition, the Secretary considers the following factors:

(i) The extent to which the design of the proposed project is appropriate to, and will successfully address, the needs of the target population or other identified needs;

(ii) The extent to which the design of the proposed project includes a thorough, high-quality review of the relevant literature, a high-quality plan for project implementation, and the use of appropriate methodological tools to ensure successful achievement of project objectives;

(iii) The extent to which the services to be provided by the proposed project involve the collaboration of appropriate partners for maximizing the effectiveness of project services;

(iv) The likely impact of the services to be provided by the proposed project on the intended recipients of those services; and

(v) The extent to which the services to be provided by the proposed project are focused on those with greatest needs.

(c) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the methods of evaluation include the use of objective performance measures that are clearly related to the intended outcomes of the project and will produce quantitative and qualitative data to the extent possible;

(iii) The extent to which the methods of evaluation provide for examining the effectiveness of project implementation strategies;

(iv) The extent to which the methods of evaluation will provide performance feedback and permit periodic assessment of progress toward achieving intended outcomes; and

(v) The extent to which the evaluation plan clearly articulates the key project components, mediators, and outcomes, as well as a measurable threshold for acceptable implementation.

(d) Adequacy of resources and quality of project personnel (20 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel;

(ii) The qualifications, including relevant training and experience, of project consultants or subcontractors;

(iii) The adequacy of support, including facilities, equipment, supplies, and other resources, from the applicant organization or the lead applicant organization;

(iv) The relevance and demonstrated commitment of each partner in the proposed project to the implementation and success of the project; and

(v) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks;

(ii) The extent to which the time commitments of the project director and principal investigator and other key project personnel are appropriate and adequate to meet the objectives of the proposed project;

(iii) How the applicant will ensure that a diversity of perspectives are brought to bear in the operation of the proposed project, including those of parents, teachers, the business community, a variety of disciplinary and professional fields, recipients or beneficiaries of services, or others, as appropriate; and

(iv) The adequacy of procedures for ensuring feedback and continuous improvement in the operation of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purposes of Department reporting under 34 CFR 75.110, we have established a set of performance measures, including long-term measures, that are designed to yield information on various aspects of the effectiveness and quality of the ETechM2 Program. These measures are:

• Program Performance Measure 1: The percentage of ETechM2 Program products and services judged to be of high quality by an independent review panel of experts qualified to review the substantial content of the products and services.

• Program Performance Measure 2: The percentage of ETechM2 Program products and services judged to be of high relevance to improving outcomes for infants, toddlers, children, and youth with disabilities.

• Program Performance Measure 3: The percentage of ETechM2 Program products and services judged to be useful in improving results for infants, toddlers, children, and youth with disabilities.

• Program Performance Measure 4.1: The Federal cost per unit of accessible educational materials funded by the ETechM2 Program.

• Program Performance Measure 4.2: The Federal cost per unit of accessible educational materials from the National Instructional Materials Access Center funded by the ETechM2 Program.

• Program Performance Measure 4.3: The Federal cost per unit of video description funded by the ETechM2 Program.

Program Performance Measures 1, 2, and 3 apply to projects funded under this competition, and grantees are required to submit data on Program Performance Measures 1, 2, and 3 as directed by OSEP.

Grantees will be required to report information on their project's performance in annual performance reports and will be required upon request to report additional performance data to the Department (34 CFR 75.590 and 75.591).

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to one of the program contact persons listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Katherine Neas,
Deputy Assistant Secretary, Delegated the authority to perform the functions and duties of the Assistant Secretary for the Office of Special Education and Rehabilitative Services.

[FR Doc. 2023-02987 Filed 2-10-23; 8:45 am]

BILLING CODE 4000-01-P